DEPARTMENT OF TRANSPORTATION

Federal Aviation Administration

14 CFR Part 39

[Docket No. 2003-NM-222-AD]

RIN 2120-AA64

Airworthiness Directives; Bombardier Model DHC-8-101, -102, -103, -106, -201, -202, -301, -311, and -315 Airplanes on Which Engine Oil Coolers Have Been Installed Per LORI, Inc., Supplemental Type Certificate (STC) SA8937SW

AGENCY: Federal Aviation Administration, DOT.

ACTION: Notice of proposed rulemaking (NPRM).

SUMMARY: This document proposes the adoption of a new airworthiness directive (AD) that is applicable to certain Bombardier Model DHC-8-101, -102, -103, -106, -201, -202, -301, -311, and -315 airplanes on which engine oil coolers have been installed per LORI, Inc., STC SA8937SW. This proposal would require an inspection or a review of the airplane maintenance records to determine the part number and serial number of each engine oil cooler, and replacement of certain engine oil coolers with reworked engine oil coolers. This action is necessary to prevent oil leakage from the engine oil coolers, consequent in-flight engine shutdown due to low oil pressure, and reduced controllability of the airplane. This action is intended to address the identified unsafe condition.

DATES: Comments must be received by February 25, 2004.

ADDRESSES: Submit comments in triplicate to the Federal Aviation Administration (FAA), Transport Airplane Directorate, ANM-114, Attention: Rules Docket No. 2003-NM-222-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-222-AD” in the subject line and need not be submitted in triplicate. Comments sent via the Internet as attached electronic files must be formatted in Microsoft Word 97 or 2000 or ASCII text.

The service information referenced in the proposed rule may be obtained from Honeywell Engines, Systems & Services, LORI, Inc., 6930 N. Lakewood, Tulsa, Oklahoma 74117. This information may be examined at the FAA, Transport Airplane Directorate, 1601 Lind Avenue, SW., Renton, Washington; or at the FAA, Rotorcraft Directorate, 2601 Meacham Boulevard, Fort Worth, Texas.

FOR FURTHER INFORMATION CONTACT: Jim Rankin, Aerospace Engineer, Special Certification Office, ASW-190, 2601 Meacham Boulevard, Fort Worth, Texas 76193; telephone (817) 222-5138; fax (817) 222-5785.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-222-AD.” The postcard will be date stamped and returned to the commenter.

Availability of NPRMs

Any person may obtain a copy of this NPRM by submitting a request to the FAA, Transport Airplane Directorate, ANM-114, Attention: Rules Docket No. 2003-NM-222-AD, 1601 Lind Avenue, SW., Renton, Washington 98055-4056.

Discussion

The FAA has received reports from LORI, Inc., the manufacturer of certain engine oil coolers installed on Bombardier Model DHC-8-101, -102, -103, -106, -201, -202, -301, -311, and -315 airplanes, that a batch of engine oil coolers with specific serial numbers have developed in-service cracking. Investigation revealed that the cracking is a result of deficient weld joints in the casting-to-core welds. Such cracking could result in oil leakage from the engine oil coolers, consequent in-flight engine shutdown due to low oil pressure, and reduced controllability of the airplane.

Explanation of Relevant Service Information

Honeywell has issued Service Bulletin 28E99-79-2036, dated September 23, 2002, which describes procedures for identifying the part number and serial number of the engine oil coolers and comparing the results against the effectivity information in paragraph 1.A. of the service bulletin, inspecting affected engine oil coolers for indication of oil leakage, and replacing discrepant engine oil coolers with reworked engine oil coolers. Accomplishment of the actions specified in the service bulletin is intended to adequately address the identified unsafe condition.

U.S. Type Certification of the Airplanes

These airplane models are manufactured in Canada and are type certificated for operation in the United States under the provisions of section 21.29 of the Federal Aviation Regulations (14 CFR 21.29) and the applicable bilateral airworthiness agreement.

Explanation of Requirements of Proposed Rule

Since an unsafe condition has been identified that is likely to exist or develop on other airplanes of the same type design registered in the United States, the proposed AD would require accomplishment of the actions specified in the service bulletin described previously, except as discussed below.

Special Flight Permits

On July 10, 2002, the FAA issued a new version of 14 CFR part 39 (67 FR 47997, July 22, 2002), which governs the FAA's airworthiness directives system. As amended, part 39 provides for the FAA to add special requirements for operating an airplane to a repair facility to do the work required by an airworthiness directive. For the purposes of this proposed AD, we have determined that a special flight permit would be permitted, but with certain limitations.

Cost Impact

The FAA estimates that 19 airplanes of U.S. registry would be affected by this proposed AD. It would take approximately 1 work hour per airplane to accomplish the proposed inspection, at an average labor rate of $65 per work hour. Based on these figures, the cost impact of the proposed inspection on U.S. operators is estimated to be $1,235, or $65 per airplane.

Should an operator have to replace an engine oil cooler, it would take approximately 3 work hours at an average labor rate of $65 per work hour. Required parts would be provided at no charge by the part manufacturer. Based on these figures, the cost impact of the proposed replacement on U.S. operators is estimated to be $195 per engine oil cooler.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly de Havilland, Inc.): Docket 2003-NM-222-AD.

Applicability: Model DHC-8-101, -102, -103, -106, -201, -202, -301, -311, and -315 airplanes on which engine oil coolers have been installed per LORI, Inc. Supplemental Type Certificate SA8937SW; certificated in any category.

Compliance: Required as indicated, unless accomplished previously.

To prevent oil leakage from the engine oil coolers, consequent in-flight engine shutdown due to low oil pressure, and reduced controllability of the airplane, accomplish the following:

Identification of Part Number and Serial Number and Corrective Actions

(a) Within 7 days after the effective date of this AD, do a detailed inspection or a review of airplane maintenance records to positively determine the part numbers (P/N) and serial numbers (S/N) of the engine oil coolers, in accordance with the Accomplishment Instructions of Honeywell Service Bulletin 28E99-79-2036, dated September 23, 2002.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If neither engine oil cooler has a S/N as listed in Table 1 of the service bulletin: No further action is required by this paragraph.

(2) If only one engine oil cooler has a S/N as listed in Table 1 of the service bulletin: Within 90 days after the effective date of this AD, remove the affected part and install a part that has been reworked per the service bulletin.

(3) If both engine oil coolers have S/Ns as listed in Table 1 of the service bulletin: Before further flight, remove at least one of the affected parts and install a part that has been reworked per the service bulletin. If only one affected part is replaced with a part that has been reworked, within 90 days after the effective date of this AD, remove the remaining affected part and install a part that has been reworked per the service bulletin.

Parts Installation

(b) As of the effective date of this AD, no person shall install an engine oil cooler having a S/N as listed in Table 1 of Honeywell Service Bulletin 28E99-79-2036, dated September 23, 2002.

Special Flight Permit

(c) Special flight permits with a limitation may be issued in accordance with sections 21.197 and 21.199 of the Federal Aviation Regulations (14 CFR 21.197 and 21.199) to operate the airplane to a location where the requirements of this AD can be accomplished. The special flight permits would have a limitation of one affected engine oil cooler per airplane.

Alternative Methods of Compliance

(d) In accordance with 14 CFR 39.19, the Manager, Special Certification Office, Rotorcraft Directorate, FAA, is authorized to approve alternative methods of compliance for this AD.

Issued in Renton, Washington, on January 16, 2004.
Ali Bahrami,
Acting Manager, Transport Airplane Directorate, Aircraft Certification Service.

[FR Doc. 04-1562 Filed 1-23-04; 8:45 am]

BILLING CODE 4910-13-P